ENVIRONMENTAL PROTECTION AGENCY

40 CFR Part 300

[EPA-HQ-SFUND-1983-0002; FRL-9984-02—Region 4]

National Oil and Hazardous Substances Pollution Contingency Plan; National Priorities List: Deletion of the Whitehouse Oil Pits Superfund Site

AGENCY: Environmental Protection Agency (EPA).

ACTION: Final rule.

SUMMARY: The Environmental Protection Agency (EPA) Region 4 announces the deletion of the Whitehouse Oil Pits Superfund Site, also known as “Whitehouse Waste Oil Pits”, (Site) located in Whitehouse, Florida, from the National Priorities List (NPL). The NPL, promulgated pursuant to section 105 of the Comprehensive Environmental Response, Compensation, and Liability Act (CERCLA) of 1980, as amended, is an appendix of the National Oil and Hazardous Substances Pollution Contingency Plan (NCP). The EPA and the State of Florida, through the Florida Department of Environmental Protection, have determined that all appropriate response actions under CERCLA, other than operation and maintenance, monitoring, and five-year reviews, have been completed. However, this deletion does not preclude future actions under Superfund.

DATES: This action is effective September 19, 2018.

ADDRESSES: Docket: EPA has established a docket for this action under Docket Identification No. EPA-HQ-SFUND-1983-0002. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the site information repositories. Locations, contacts, phone numbers and viewing hours are:

USEPA Region 4, 61 Forsyth Street SW, Atlanta, GA 30303-8909, Monday through Friday, 7:30 a.m. to 4:30 p.m.

Or

West Regional Jacksonville Public Library, 1425 Chaffee Road S, Jacksonville, FL 32221, Monday through Thursday: 10 a.m. to 9 p.m., Friday & Saturday: 10 a.m. to 6 p.m., Sunday: CLOSED.

FOR FURTHER INFORMATION CONTACT: Rusty Kestle, Remedial Project Manager, U.S. Environmental Protection Agency, Region 4, 61 Forsyth Street SW, Atlanta, GA 30303-8909, (404) 562-8819, email: kestle.rusty@epa.gov.

SUPPLEMENTARY INFORMATION: The site to be deleted from the NPL is: Whitehouse Oil Pits, Whitehouse, Florida. A Notice of Intent to Delete for this Site was published in the Federal Register (83 FR 33171) on July 17, 2018.

The closing date for comments on the Notice of Intent to Delete was August 16, 2018. Two public comments were received; one of the public comments does not address the rulemaking or deletion. The other public comment was about the risk posed by the waste that was left on the Site in the containment remedy, the potential to support recreational or ecological land uses in the future on the Site, and monitoring and additional cleanup at the Site. This comment is addressed by the requirements and procedures in the Site Operations, Monitoring and Maintenance Plan which requires ongoing groundwater sampling and analysis, as well as requiring Site appropriate operations and maintenance, including inspections to ensure the on-going remedy is performing as designed. Also, the ongoing Five Year Review process will continue as long as there is waste left on the Site to assess remedy performance and protectiveness and assess any changing site conditions. This deletion does not preclude future actions under the Superfund rule-making that EPA can take action after deletion, as needed, and restore the site to the NPL, if there is any change found in the protectiveness of the remedy for the Site. Therefore, after evaluating these comments, EPA believes the deletion action for the Site is appropriate. A responsiveness summary was prepared and placed in both the docket, EPA-HQ-SFUND-1983-0002, on www.regulations.gov, and in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 10, 2018.
Onis “Trey” Glenn, III,
Regional Administrator, Region 4.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300 [Amended]

2. Table 1of appendix B to part 300 is amended by removing the entry “FL”, “Whitehouse Oil Pits”, “Whitehouse”.

[FR Doc. 2018-20390 Filed 9-18-18; 8:45 am]

BILLING CODE 6560-50-P